DEPARTMENT OF JUSTICE

Notice of Lodging of Stipulation and Modification of Consent Decree With Broderick Investment Company Under the Comprehensive Environmental Response, Compensation, and Liability Act

Notice is hereby given that on September 15, 2008 a Stipulation and Modification of Consent Decree (“Stipulation”) with Broderick Investment Company (“BIC”) in United States of America v. Broderick Investment Company, Civil Action No. 86-Z-369, was lodged with the United States District Court for the District of Colorado.

The United States and the State of Colorado previously entered into a consent decree with BIC that was approved and entered by the United States District for the District of Colorado on June 26, 1995. Pursuant to that consent decree BIC is obligated to complete the remedy for the Broderick Wood Products Superfund Site in Adams County, Colorado (the “Site”). The Stipulation effects a compromise of a portion of EPA's billings to BIC for EPA's oversight costs for the years 2002, 2003, and 2004, and suspends BIC's obligation to pay EPA's future oversight costs. The Stipulation provides a process for EPA to bill BIC for future oversight costs and to be reimbursed for the uncompromised prior oversight costs if BIC completes the remedy without depleting all its financial assets.

The Department of Justice will receive for a period of thirty (30) days from the date of this publication comments relating to the Stipulation. Comments should be addressed to the Assistant Attorney General, Environment and Natural Resources Division, and either e-mailed to pubcomment-ees.enrd@usdoj.gov or mailed to P.O. Box 7611, U.S. Department of Justice, Washington, DC 20044-7611, and should refer to United States of America v. Broderick Investment Company, Ref. 90-7-13254.

The Stipulation may be examined at the Office of the United States Attorney for the District of Colorado, 1225 Seventeenth Street, Suite 700, Denver, CO 80202, and at U.S. EPA Region 8, Superfund Records Center, 1595 Wynkoop St., Denver, CO 80202-1129. During the public comment period, the Stipulation may also be examined on the following Department of Justice Web site, http://www.usdoj.gov/enrd/Consent_Decrees.html. A copy of the Stipulation may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.25 (25 cents per page reproduction cost) payable to the U.S. Treasury or, if by e-mail or fax, forward a check in that amount to the Consent Decree Library at the stated address.

Robert D. Brook,
Assistant Chief, Environmental Enforcement Section, Environment and Natural Resources Division.

[FR Doc. E8-21894 Filed 9-18-08; 8:45 am]

BILLING CODE 4410-15-P